DEPARTMENT OF ENERGY

Federal Energy Regulatory Commission

[Project No. 2426-197]

California Department of Water Resources and the City of Los Angeles; Notice Denying Late Intervention

November 28, 2007.

On June 8, 2005, the Commission issued a public notice of California Department of Water Resources' (California DWR) and the City of Los Angeles' application to amend their license for the California Aqueduct Project No. 2426. On June 11, 2007, Friends of the River filed a late motion to intervene in the proceeding.

In determining whether to grant late intervention, the Commission may consider such factors as whether the movant had good cause for filing late, whether the movant's interest is adequately represented by other parties to the proceeding, and whether granting the intervention might result in disruption to the proceeding or prejudice to other parties.¹ Movants for late interventions must, among other things, demonstrate good cause why the time limit should be waived.²

¹ 18 CFR 385.214(d) (2007).

² 18 CFR 385.214(b)(3) (2007).

Friends of the River argues that good cause exists for late intervention because it had no actual notice of the deadline for motions to intervene. It states that it only became aware of the deadline when the Commission issued the Environmental Assessment (EA) for the proposed license amendment on March 1, 2007. Friends of the River also argues that even if it had received actual notice of the deadline, it still would not have known of its actual need to become a party in the proceeding until the Commission issued its environmental determinations in the EA.

Movant's assertions are without merit. The Commission issued public notice of the amendment application on June 8, 2005, and published notice in the Federal Register on June 15, 2005.³ Movant therefore was on notice of licensee's application, but failed to timely respond to it.⁴ Allowing late intervention at this point in the proceedings would create prejudice and additional burdens on the Commission and its applicants.

³ 70 FR 34,750 (2005).

⁴ See Federal Crop Ins. Corp. v. Merrill, 332 U.S. 380 (1947) (holding that Federal Register publication provides notice to all affected parties).

The Commission expects parties to intervene in a timely manner based on the reasonably foreseeable issues arising from the applicant's filings and the Commission's notice of proceedings.⁵ The Commission has held that the party bears the responsibility for determining when a proceeding is relevant to its interests, such that it should file a motion to intervene. When a party fails to intervene in a timely fashion, the party assumes the risk that the case will be settled in a manner that is not to its liking.⁶ The Commission has previously explained that an entity cannot “sleep on its rights” and then seek untimely intervention.⁷ Therefore, Friends of the River's argument that it would not have known of its actual need to become a party in the proceeding until the Commission issued its environmental determinations in the EA is without merit.

⁵ See California Water Resources Department and the City of Los Angeles, 120 FERC ¶ 61,057 at n.9 (2007).

⁶ Id. at P 13.

⁷ Id. at P 14.

Movant has failed to demonstrate good cause standard for granting late intervention. The motion for late intervention in these proceedings filed by movant is therefore denied.

This notice constitutes final agency action. Requests for rehearing by the Commission of this rejection must be filed within 30 days of the date of issuance of this notice, pursuant to 18 CFR 385.713 (2007).

Kimberly D. Bose,
Secretary.

[FR Doc. E7-23622 Filed 12-5-07; 8:45 am]

BILLING CODE 6717-01-P